FEDERAL COMMUNICATIONS COMMISSION

Federal Advisory Committee Act

AGENCY: Federal Communications Commission.

ACTION: Notice.

SUMMARY: In accordance with the Federal Advisory Committee Act, the purpose of this notice is to announce that a Federal Advisory Committee, known as the “Independent Panel Reviewing the Impact of Hurricane Katrina on Communications Networks” (hereinafter the “Independent Panel”) is being established.

ADDRESSES: Federal Communications Commission, Enforcement Bureau, 445 12th Street, SW., Washington, DC 20554, Attn: Lisa M. Fowlkes, 445 12th Street, SW., Washington, DC 20554.

FOR FURTHER INFORMATION CONTACT: Lisa M. Fowlkes, Federal Communications Commission, 445 12th St., SW., Washington, DC 20554. Telephone (202) 418-7452, e-mail lisa.fowlkes@fcc.gov.

SUPPLEMENTARY INFORMATION: The Chairman of the Federal Communications Commission has determined that the establishment of the Panel is necessary and in the public interest in connection with the performance of duties imposed upon the Federal Communications Commission (“FCC” or “Commission”) by law. The Committee Management Secretariat, General Services Administration concurs with the establishment of the Independent Panel. The purpose of the Independent Panel is to review the impact of Hurricane Katrina on the telecommunications and media infrastructure in the areas affected by the hurricane. Specifically, the Independent Panel will study the impact of Hurricane Katrina on all sectors of the telecommunications and media industries, including public safety communications. The Independent Panel will also review the sufficiency and effectiveness of the recovery effort with respect to this infrastructure. The Independent Panel will then make recommendations to the FCC by June 15, 2006 regarding ways to improve disaster preparedness, network reliability, and communications among first responders such as police, firefighters, and emergency medical personnel.

Federal Communications Commission.
Lisa M. Fowlkes,
Assistant Chief, Enforcement Bureau.

[FR Doc. 06-150 Filed 1-5-06; 8:45 am]

BILLING CODE 6712-01-P